DEPARTMENT OF AGRICULTURE

Food Safety and Inspection Service

[Docket No. FSIS-2011-0006]

Codex Alimentarius Commission: Meeting of the Codex Committee on Fresh Fruits and Vegetables (CCFFV)

AGENCY: Office of the Under Secretary for Food Safety, USDA.

ACTION: Notice of public meeting and request for comments.

SUMMARY: The Office of the Under Secretary for Food Safety, U.S. Department of Agriculture (USDA), and the Fruit and Vegetable Programs of the USDA Agricultural Marketing Service (AMS), are sponsoring a public meeting on April 5, 2011. The objective of the public meeting is to provide information and receive public comments on agenda items and draft United States (U.S.) positions that will be discussed at the 16th session of the CCFFV of the Codex Alimentarius Commission (Codex), which will be held in Mexico City, Mexico from May 2-6, 2011. The Under Secretary for Food Safety and AMS recognize the importance of providing interested parties the opportunity to obtain background information on the 16th Session of the CCFFV and to address items on the agenda.

DATES: The public meeting is scheduled for April 5, 2011, from 10:30 a.m. to 12 noon.

ADDRESSES: The public meeting will be held at USDA, South Building, 1400 Independence Avenue, SW., Room 2068, Washington, DC 20250. Documents related to the 16th session of the CCFFV will be accessible via the World Wide Web at the following address: http://www.codexalimentarius.net/current.asp.

Dorian Lafond, U.S. Delegate to the 16th session of the CCFFV, invites interested U.S. parties to submit their comments electronically to the following e-mail address: Dorian.LaFond@ams.usda.gov.

Call-In Number:

If you wish to participate in the public meeting for the 16th session of the CCFFV by conference call, please use the call-in number and participant code listed below:

Call-in Number: 1-866-692-3158

Participant code: 5986642

FOR FURTHER INFORMATION About the 16th Session of the CCFFV Contact:

Dorian Lafond, International Standards Coordinator, Fruit and Vegetable Programs, Office of the Administrator, AMS, USDA, 1400 Independence Avenue, SW., Washington, DC 20250, phone: (202) 690-4944 fax: (202) 720-4722, e-mail: Dorian.Lafond@ams.usda.gov.

For Further Information About the Public Meeting Contact: Kenneth Lowery, US Codex Office, 1400 Independence Avenue, SW., Room 4861, Washington, DC 20250, phone: (202) 690-4042, fax: (202) 720-3157, e-mail: Kenneth.Lowery@fsis.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure that fair practices are used in trade.

The CCFFV is responsible for elaborating worldwide standards and codes of practice as may be appropriate for fresh fruits and vegetables, consulting with the United Nations Economic Commission for Europe (UNECE) Working Party on Agricultural Quality Standards in the elaboration of worldwide standards and codes of practice with particular regard to ensuring that there is no duplication of standards or codes of practice and that they follow the same broad format, and consulting as necessary with other international organizations which are active in the area of standardization of fresh fruits and vegetables.

The Committee is hosted by Mexico.

Issues To Be Discussed at the Public Meeting

The following items on the agenda for the 16th session of the CCFFV will be discussed during the public meeting:

• Matters arising from Codex and other Codex Committees—Need for international Standard for Fresh Fungus “Chanterelle.” Possible extension of territorial application of the Codex Standard for Fresh Fungus “Chanterelle”.

• Matters arising from other International Organizations on the Standardization of Fresh Fruits and Vegetables.

• UNECE Standards for Fresh Fruits and Vegetables—UNECE Standard for Avocado.

• Draft Standard for Avocado.

• Draft Standard for Tree Tomatoes.

• Proposed Draft Standard for Chili Peppers.

• Proposed Draft Standard for Pomegranate.

• Proposed Layout for Codex Standards for Fresh Fruits and Vegetables.

• Discussion Paper on Point of Application of Codex Standards for Fresh Fruits and Vegetables including Quality Tolerances at Import and Export Control Points.

• Proposals for New Work on Codex Standards for Fresh Fruits and Vegetables.

Each issue listed will be fully described in documents distributed, or to be distributed, by the Secretariat prior to the meeting. Members of the public may access these documents (see ADDRESSES).

Public Meeting

At the April 5, 2011, public meeting, draft U.S. positions on the agenda items will be described and discussed, and attendees will have the opportunity to pose questions and offer comments. Written comments may be offered at the meeting or sent to the U.S. Delegate for the 16th session of the CCFFV, Dorian Lafond (see ADDRESSES). Written comments should state that they relate to activities of the 16th session of the CCFFV.

USDA Nondiscrimination Statement

USDA prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue, SW., Washington, DC 20250-9410 or call (202) 720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience. In addition, FSIS offers an e-mail subscription service which provides automatic and customized access to selected food safety news and information. This service is available at http://www.fsis.usda.gov/News_&_Events/Email_Subscription/.

Options range from recalls, export information, regulations, directives, and notices. Customers can add or delete subscriptions themselves, and have the option to password protect their accounts.

Done at Washington, DC on: March 25, 2011.
Karen Stuck,
U.S. Manager for Codex Alimentarius.

[FR Doc. 2011-7646 Filed 3-31-11; 8:45 am]

BILLING CODE 3410-DM-P